DEPARTMENT OF TRANSPORTATION

Federal Aviation Administration

14 CFR Part 39

[Docket No. FAA-2012-0177; Directorate Identifier 2009-SW-59-AD; Amendment 39-17149; AD 2012-16-02]

RIN 2120-AA64

Airworthiness Directives; Eurocopter France Helicopters

AGENCY: Federal Aviation Administration (FAA), DOT.

ACTION: Final rule.

SUMMARY: We are adopting a new airworthiness directive (AD) for Eurocopter France Model EC155B and EC155B1 helicopters with a VIP 4-seat bench to require revising the Limitations section of the Rotorcraft Flight Manual (RFM) and converting the VIP 4-seat bench into a 3-seat configuration. This AD was prompted by the determination that the load strength of the seat attachment hardware of the seat installation does not meet certification specifications. The required actions are intended to prevent overloading of the seat structure at the attachment point during a hard landing or emergency landing, which could result in the VIP 4-seat bench detaching from the floor and subsequent injury to the seat occupants.

DATES: This AD is effective September 26, 2012.

The Director of the Federal Register approved the incorporation by reference of certain publications listed in this AD as of September 26, 2012.

ADDRESSES: For service information identified in this AD, contact American Eurocopter Corporation, 2701 N. Forum Drive, Grand Prairie, Texas 75052, telephone (972) 641-0000 or (800) 232-0323, fax (972) 641-3775, or at http://www.eurocopter.com/techpub. You may review the referenced service information at the FAA, Office of the Regional Counsel, Southwest Region, 2601 Meacham Blvd., Room 663, Fort Worth, Texas 76137.

Examining the AD Docket: You may examine the AD docket on the Internet at http://www.regulations.gov or in person at the Docket Operations Office between 9 a.m. and 5 p.m., Monday through Friday, except Federal holidays. The AD docket contains this AD, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Gary Roach, Aerospace Engineer, FAA, Regulations and Policy Group, 2601 Meacham Blvd., Fort Worth, Texas 76137; telephone: (817) 222-5130; fax: (817) 222-5961, email gary.b.roach@faa.gov.

SUPPLEMENTARY INFORMATION:

Discussion

On February 28, 2012, at 77 FR 11787, the Federal Register published our notice of proposed rulemaking (NPRM), which proposed to amend 14 CFR part 39 to include an AD that would apply to Eurocopter France Model EC155B and EC155B1 helicopters with a VIP 4-seat bench. That NPRM proposed to require, before further flight, revising the Limitations section of the RFM, and within 15 hours time-in-service (TIS), converting the VIP 4-seat bench into a 3-seat configuration. Instead of revising the Limitations section and converting the VIP 4-seat bench, the NPRM proposed to allow modifying the rear VIP 4-seat bench or the front VIP 4-seat bench by installing shims, which would constitute terminating action for the requirements of this AD. The proposed requirements were intended to prevent overloading of the seat structure at the attachment point during a hard landing or emergency landing, which could result in the VIP 4-seat bench detaching from the floor and subsequent injury to the seat occupants.

The European Aviation Safety Agency (EASA), which is the Technical Agent for the Member States of the European Union, has issued EASA AD No. 2009-0078R1, dated June 30, 2009 (AD No. 2009-0078R1), to correct an unsafe condition for the Eurocopter model EC155B and EC155B1, all serial numbers up to and including 6892, fitted with a VIP 4-seat bench, P/N 365V85-0045-01 or 365V85-0046-01. EASA advises that Eurocopter identified an unsafe condition while performing customization work that involved the installation of the VIP 4-seat bench. During the installation work, Eurocopter determined that the load strength of the seat attachment hardware of the seat installation did not meet certification specifications. EASA advises that this condition, if not corrected, would lead to overloading of the seat structure at the attachment point during an emergency landing, which could result in the seat bench detaching from the floor fitting rails and potentially resulting in injury to the seat occupants.

Comments

We gave the public the opportunity to participate in developing this AD, but we did not receive any comments on the NPRM.

FAA's Determination

These helicopters have been approved by the aviation authority of France and are approved for operation in the United States. Pursuant to our bilateral agreement with France, EASA, its technical representative, has notified us of the unsafe condition described in the EASA AD. We are issuing this AD because we evaluated all information provided by the EASA and determined the unsafe condition exists and is likely to exist or develop on other helicopters of the same type design and that air safety and the public interest require adopting the AD requirements as proposed.

Related Service Information

Eurocopter has issued Emergency Alert Service Bulletin (ASB) No. 04A009, Revision 1, dated June 24, 2009 (Emergency ASB No. 04A009R1), which revises Emergency Alert Service Bulletin No. 04A009, Revision 0, dated March 30, 2009 (Emergency ASB No. 04A009R0). Emergency ASB No. 04A009R0 specified revising the RFM to restrict the VIP 4-seat bench to a maximum of 3 occupants and converting the VIP 4-seat bench into a 3-seat bench. EASA classified Emergency ASB No. 04A009R0 as mandatory to ensure the continued airworthiness of these helicopters and issued EASA Emergency AD No. 2009-0078-E, dated April 1, 2009 (Emergency AD No. 2009-0078-E).

Eurocopter has now developed optional terminating actions, and issued Service Bulletin No. 25-095, Revision 0, dated June 25, 2009 (SB No. 25-095), which specifies installing new shims between the attachment rails and the cabin floor at the seat position to strengthen the attachment security of the seat. Eurocopter also issued Emergency ASB No. 04A009R1, which retained the requirements of Emergency ASB No. 04A009R0 and specified that helicopters modified in accordance with SB No. 25-095 had met the requirements of Emergency ASB No. 04A009R1. In response, EASA issued AD No. 2009-0078R1, which retained the requirements of Emergency AD No. 2009-0078-E and added the optional terminating action of modifying the seat configuration to strengthen the attachment security of the seat. EASA AD No. 2009-0078R1 also allows, after installing the bench modification kit, removal of the RFM limitation of 3 occupants.

Differences Between This AD and the EASA AD

This AD specifies that the conversion of the VIP 4-seat bench to a 3-seat bench must occur within 15 hours TIS, while the EASA AD specifies that compliance must occur within 15 hours TIS or 7 days, whichever occurs first. This AD uses different P/Ns for the bench modification kits, because AD No. 2009-0078R1 and SB No. 25-095 use different P/Ns for the same part, and this AD uses the P/N in SB No. 25-095.

Costs of Compliance

We estimate that this AD will affect 4 helicopters of U.S. registry. We estimate that it will take a negligible amount of work hours per helicopter to amend the Limitation section of the applicable RFM. We estimate it will take approximately 0.25 hour to convert the VIP 4-seat bench to a 3-seat bench at an average labor rate of $85 per work hour. Estimated labor costs for the conversion are approximately $21.25 per helicopter, and approximately $85 for the fleet. Based on these figures, we estimate the total cost impact of the AD on U.S. operators to be $85, assuming that no helicopter has been previously modified with the rear VIP bench seat retrofit kit P/N 365V08-0079-0171 and the front VIP bench seat retrofit kit P/N 365V08-0079-0271.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2012-16-02 Eurocopter France: Amendment 39-17149; Docket No. FAA-2012-0177; Directorate Identifier 2009-SW-59-AD.

(a) Applicability

This AD applies to Model EC155B and EC155B1 helicopters, all serial numbers up to and including 6892, with a VIP 4-seat bench, part number (P/N) 365V85-0045-01 or 365V85-0046-01, installed; certificated in any category.

(b) Unsafe Condition

This AD defines the unsafe condition as possible overloading of the seat structure at the attachment point during a hard landing or emergency landing. This condition could result in the bench seat detaching from the floor and subsequent injury to the seat occupants.

(c) Effective Date

This AD becomes effective September 26, 2012.

(d) Compliance

You are responsible for performing each action required by this AD within the specified compliance time unless it has already been accomplished prior to that time.

(e) Required Actions

(1) Before further flight, revise the Limitations section of the Rotorcraft Flight Manual (RFM) by inserting the following statement into the Limitations section: “The VIP 4-seat bench, P/N 365V85-0045-01 or 365V85-0046-01 is limited to 3 passengers.” You may make the change to the Limitations section of the RFM in pen and ink, or by inserting a copy of this AD into the Limitations section of the RFM.

(2) Within the next 15 hours time-in-service, convert the VIP 4-seat bench into the 3-seat configuration in accordance with paragraphs 2.B.1 through 2.B.3 and Figure 1 of Eurocopter Emergency Alert Service Bulletin No. 04A009, Revision 1, dated June 24, 2009.

(f) Alternative Actions for Paragraph (e)

Instead of complying with paragraphs (e)(1) and (e)(2) of this AD, you may modify the rear VIP 4-seat bench by installing the shims contained in rear VIP bench seat retrofit kit, P/N 365V08-0079-0171 (which corresponds to modification 365V08-0079-01), or the front VIP 4-seat bench by installing the shims contained in front VIP bench seat retrofit kit, P/N 365V08-0079-0271 (which corresponds to modification 365V08-0079-02), in accordance with the Operational Procedure, paragraph 2.B. of the Eurocopter Service Bulletin No. 25-095, dated June 25, 2009. Modifying the VIP 4-seat bench constitutes terminating action for the requirements of this AD.

(g) Alternative Methods of Compliance (AMOCs)

(1) The Manager, Safety Management Group, FAA, may approve AMOCs for this AD. Send your proposal to: Gary Roach, Aerospace Engineer, FAA, Regulations and Policy Group, 2601 Meacham Blvd., Fort Worth, Texas 76137; telephone: (817) 222-5130; fax: (817) 222-5961, email gary.b.roach@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(h) Additional Information

The subject of this AD is addressed in European Aviation Safety Agency AD No. 2009-0078R1, dated June 30, 2009.

(i) Subject

Joint Aircraft Service Component (JASC) Code: 2500: Cabin Equipment/Furnishings.

(j) Material Incorporated by Reference

(1) The Director of the Federal Register approved the incorporation by reference of this service information under 5 U.S.C. 552(a) and 1 CFR part 51.

(2) You must use this service information as applicable to do the actions required by this AD, unless the AD specifies otherwise.

(i) Eurocopter Emergency Alert Service Bulletin No. 04A009, Revision 1, dated June 24, 2009.

(ii) Eurocopter Service Bulletin No. 25-095, dated June 25, 2009.

(3) For service information identified in this AD, contact American Eurocopter Corporation, 2701 N. Forum Drive, Grand Prairie, Texas 75052, telephone (972) 641-0000 or (800) 232-0323, fax (972) 641-3775, or at http://www.eurocopter.com/techpub.

(4) You may review the referenced service information at the FAA, Office of the Regional Counsel, Southwest Region, 2601 Meacham Blvd., Room 663, Fort Worth, Texas 76137.

(5) You may also review copies of this service information that is incorporated by reference at the National Archives and Records Administration (NARA). For information on the availability of this material at NARA, call (202) 741-6030, or go to: http://www.archives.gov/federal_register/code_of_federal_regulations/ibr_locations.html.

Issued in Fort Worth, Texas, on July 26, 2012.
Kim Smith,
Manager, Rotorcraft Directorate, Aircraft Certification Service.

[FR Doc. 2012-20342 Filed 8-21-12; 8:45 am]

BILLING CODE 4910-13-P